DEPARTMENT OF ENERGY

Federal Energy Regulatory Commission

[Docket No. EL03-10-000]

Northeast Utilities Service Company, Complainant, v. NRG Energy, Inc., Respondent.; Notice of Complaint

October 11, 2002.

Take notice that on October 9, 2002, Northeast Utilities Service Company (NUSCO) tendered for filing a public and non-public Complaint against NRG Energy, Inc. (NRG) asking for the enforcement of an Interconnection Agreement between NUSCO and NRG.

Copies of the Public Complaint were served upon NRG Energy, Inc., and the Connecticut Department of Public Utilities. The respondent and any interested person who has filed a motion to intervene in the complaint proceeding may make a written request to the complainant for a copy of the complete (non-public) complaint. The request must include an executed copy of the protective agreement which Northeast Utilities Service Company provided with its complaint to the Commission, as required by 18 CFR 385.206(e). Any party may file an objection to the proposed form of protective agreement.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before November 12, 2002. This filing is available for review at the Commission in the Public Reference Room or may be viewed on the Commission's Web site at http://www.ferc.gov using the “FERRIS” link. Enter the docket number excluding the last three digits in the docket number field to access the document. For Assistance, call (202) 502-8222 or for TTY, (202) 502-8659. The answer to the complaint, comments, protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-26501 Filed 10-17-02; 8:45 am]

BILLING CODE 6717-01-P